INTERNATIONAL TRADE COMMISSION

[USITC SE-02-030]

Sunshine Act Meeting

AGENCY HOLDING THE MEETING: United States International Trade Commission.

TIME AND DATE: October 18, 2002 at 11 a.m.

PLACE: Room 101, 500 E Street SW., Washington, DC 20436, Telephone: (202) 205-2000.

STATUS: Open to the public.

MATTERS TO BE CONSIDERED:

1. Agenda for future meetings: none.

2. Minutes.

3. Ratification List.

4. Inv. No. TA-421-1 (Market Disruption)(Pedestal Actuators from China)—briefing and vote. (The Commission is currently scheduled to transmit its determination on market disruption to the President on October 18, 2002.).

5. Outstanding action jackets: none.

In accordance with Commission policy, subject matter listed above, not disposed of at the scheduled meeting, may be carried over to the agenda of the following meeting.

By order of the Commission:
Issued: October 10, 2002.
Marilyn R. Abbott,
Secretary to the Commission.

[FR Doc. 02-26331 Filed 10-10-02; 2:36 pm]

BILLING CODE 7020-02-P